DEPARTMENT OF AGRICULTURE

Agricultural Research Service

Office of the Under Secretary, Research, Education, and Economics; Secretary's Advisory Committee on Agricultural Biotechnology

AGENCY: Agricultural Research Service, USDA.

ACTION: Notice of intent.

SUMMARY: We are giving notice that the Secretary of Agriculture has reestablished the Secretary's Advisory Committee on Agricultural Biotechnology. The Secretary of Agriculture has determined that the Committee is necessary and in the public interest.

FOR FURTHER INFORMATION CONTACT: Dr. Michael Schechtman, Designated Federal Official, Office of the Deputy Secretary, USDA, 202B Jamie L. Whitten Federal Building, 12th and Independence Avenue, SW., Washington, DC 20250; Telephone (202) 720-3817; Fax (202) 690-4265; E-mail mschechtman@ars.usda.gov.

SUPPLEMENTARY INFORMATION: The purpose of the Secretary's Advisory Committee on Agricultural Biotechnology is to advise the Secretary of Agriculture on a broad range of policy issues related to expanding dimensions and importance of agricultural biotechnology.

Done in Washington, DC, this 2d day of July, 2001.
Lou Gallegos,
Assistant Secretary for Administration.

[FR Doc. 01-17650 Filed 7-13-01; 8:45 am]

BILLING CODE 3410-03-U